DEPARTMENT OF DEFENSE

Department of the Navy

Notice of Availability of Record of Decision for the Final Environmental Impact Statement/Overseas Environmental Impact Statement for Gulf of Alaska Navy Training Activities

AGENCY: Department of the Navy, DoD.

ACTION: Notice.

SUMMARY: The Department of the Navy (Navy), after carefully weighing the operational and environmental consequences of the proposed action as presented in the Final Environmental Impact Statement (FEIS)/Overseas Environmental Impact Statement, announces its decision to conduct Navy training activities within the Temporary Maritime Activities Area within the Gulf of Alaska in furtherance of the Navy's statutory obligations under Title 10 of the United States Code governing the roles and responsibilities of the Navy. In its decision, the Navy considered applicable laws and executive orders, including an analysis of the effects of its actions in compliance with the Endangered Species Act, the Coastal Zone Management Act, and the National Historic Preservation Act, and the requirements of Executive Order (EO) 12898, Federal Actions to Address Environmental Justice in Minority Populations and Low Income Populations and EO 13045, Protection of Children from Environmental Health Risks and Safety Risks.

SUPPLEMENTARY INFORMATION: The complete text of the Navy's Record of Decision (ROD) is available for public viewing on the project Web site at http://www.gulfofalaskanavyeis.com along with copies of the FEIS and supporting documents. Single copies of the ROD will be made available upon request by contacting Ms. Amy Burt, 360-396-0924.

Dated: May 12, 2011.
D.J. Werner,
Lieutenant Commander, Judge Advocate General's Corps, U.S. Navy, Federal Register Liaison Officer.

[FR Doc. 2011-12283 Filed 5-18-11; 8:45 am]

BILLING CODE 3810-FF-P